ENVIRONMENTAL PROTECTION AGENCY

[EPA-HQ-OW-2016-0353; FRL-9959-32-OW]

Extension of Public Comment Period: Draft Field-Based Methods for Developing Aquatic Life Criteria for Specific Conductivity

AGENCY: Environmental Protection Agency (EPA).

ACTION: Notice; extension of comment period.

SUMMARY: The Environmental Protection Agency (EPA) is extending the comment period for the Draft Field-Based Methods for Developing Aquatic Life Criteria for Specific Conductivity. In response to stakeholder requests, the comment period will be extended for an additional 62 days, from February 21, 2017 to April 24, 2017.

DATES: Comments must be received on or before April 24, 2017.

ADDRESSES: Submit your comments, identified by Docket ID No. EPA-HQ-OW-2016-0353, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Colleen Flaherty, Health and Ecological Criteria Division (Mail Code 4304T), Environmental Protection Agency, 1200 Pennsylvania Avenue NW., Washington, DC 20460; telephone: (202) 564-5939; or email: flaherty.colleen@epa.gov.

SUPPLEMENTARY INFORMATION: On December 23, 2016 (81 FR 94370), EPA announced the availability of the Draft Field-Based Methods for Developing Aquatic Life Criteria for Specific Conductivity, and opened a 60-day public review and comment period to solicit scientific views, data, and information regarding the science and technical approach used in the derivation of the draft field-based methods. EPA is also soliciting suggestions from the public for additional ecoregional case studies for future consideration.

The original deadline to submit comments was February 21, 2017. This action extends the comment period for 62 days. Written comments must now be received by April 24, 2017. The draft methods and other supporting materials may also be viewed and downloaded from EPA's Web site at https://www.epa.gov/wqc/draft-field-based-methods-developing-aquatic-life-criteria-specific-conductivity.

Dated: February 3, 2017.
Michael Shapiro,
Acting Assistant Administrator, Office of Water.

[FR Doc. 2017-03066 Filed 2-14-17; 8:45 am]

BILLING CODE 6560-50-P